ENVIRONMENTAL PROTECTION AGENCY

40 CFR Part 52

[EPA-R05-OAR-2015-0637; FRL-9933-71-Region 5]

Air Plan Approval; Ohio; Revised Format for Materials Being Incorporated by Reference

AGENCY: Environmental Protection Agency (EPA).

ACTION: Final rule; administrative change.

SUMMARY: The Environmental Protection Agency (EPA) is revising the format for materials that are incorporated by reference (IBR) into the Ohio State Implementation Plan (SIP). The regulations and other materials affected by this format change have all been previously submitted by Ohio and approved by EPA.

DATES: This final rule is effective on November 10, 2015.

ADDRESSES: EPA has established a docket for this action under Docket ID No. EPA-R05-OAR-2015-0637. SIP materials which are incorporated by reference into 40 CFR part 52 are available for inspection at the following locations: Environmental Protection Agency, Region 5, 77 West Jackson Boulevard, Chicago, Illinois 60604 and the National Archives and Records Administration (NARA). For information on the availability of this material at NARA, call (202) 741-6030, or go to: http://www.archives.gov/federal-register/cfr/ibr-locations.html.

FOR FURTHER INFORMATION CONTACT: Matt Rau, Environmental Engineer, Control Strategies Section, Air Programs Branch (AR-18J), Environmental Protection Agency, Region 5, 77 West Jackson Boulevard, Chicago, Illinois 60604, (312) 886-6524, rau.matthew@epa.gov.

SUPPLEMENTARY INFORMATION: Throughout this document whenever “we”, “us”, or “our” is used, we mean EPA. This supplementary information section is arranged as follows:

Table of Contents

I. Background

A. Description of a SIP

B. How EPA Enforces SIPs

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What is EPA doing in this action?

II. Statutory and Executive Order Reviews

I. Background

This format revision will primarily affect the “Identification of plan” section, as well as the format of the SIP materials that will be available for public inspection at NARA and the EPA Region 5 Office. EPA is also adding a table in the “Identification of plan” section which summarizes the approval actions that EPA has taken on the nonregulatory and quasi-regulatory portions of the Ohio SIP.

A. Description of a SIP

Each state has a SIP containing the control measures and strategies to attain and maintain the National Ambient Air Quality Standards (NAAQS) along with other Clean Air Act (CAA) requirements. The SIP is extensive, containing such elements as air pollution control regulations, emission inventories, monitoring networks, attainment demonstrations, and enforcement mechanisms.

B. How EPA Enforces SIPs

Each state must formally adopt the control measures and strategies in the SIP after the public has had an opportunity to comment on them. The states then submit them to EPA as requested SIP revisions on which EPA must formally act.

EPA evaluates submitted SIPs to determine if they meet CAA requirements. If and when these control measures and strategies are approved by EPA, after notice and comment rulemaking, they are incorporated into the Federally approved SIP and identified in part 52 (Approval and Promulgation of Implementation Plans), title 40 of the Code of Federal Regulations (40 CFR part 52). The actual state regulations approved by EPA are not reproduced in their entirety in 40 CFR part 52, but are “incorporated by reference”, which means that EPA has approved a given state regulation with a specific effective date. This format allows the public to know which measures are contained in a given SIP and to help determine whether the state is enforcing the regulations. It also assists EPA and the public to take enforcement action should a state not enforce its SIP-approved regulations.

C. How the State and EPA Update the SIP

The SIP is a dynamic document that the state can revise as necessary to address the unique air pollution problems in the state. Therefore, EPA must periodically take action on SIP revisions containing new and/or revised regulations in order to make them part of the SIP. On May 22, 1997 (62 FR 27968), EPA revised the procedures for incorporating by reference Federally approved SIPs.

EPA has been developing the following: (1) A revised SIP document for each state that would be incorporated by reference under the provisions of title 1 CFR part 51; (2) a revised mechanism for announcing EPA approval of revisions to an applicable SIP and updating both the IBR document and the CFR; and (3) a revised format of the “Identification of plan” sections for each applicable subpart to reflect these revised IBR procedures

D. How EPA Compiles the SIP

The Federally approved regulations, source-specific permits, and nonregulatory provisions (entirely or portions of) submitted by each state agency and approved by EPA have been organized into a “SIP compilation”. The SIP compilation contains the updated regulations, source-specific permits, and nonregulatory provisions approved by EPA through previous rulemaking actions in the Federal Register.

E. How EPA Organizes the SIP Compilation

Each SIP compilation contains three parts. Part one contains regulations, part two contains source-specific requirements, and part three contains nonregulatory provisions that have been EPA approved. Each part consists of a table of identifying information for each SIP-approved regulation, each SIP-approved permit, and each nonregulatory SIP provision. In this action, EPA is publishing the tables summarizing the applicable SIP requirements for Ohio. The state effective dates in the tables indicate the date of the most recent revision to a particular approved regulation. The EPA Regional Offices have the primary responsibility for updating the compilations and ensuring their accuracy.

F. Where You Can Find a Copy of the SIP Compilation

EPA's Region 5 Office developed and will maintain the compilation for Ohio. A copy of the full text of Ohio's regulatory and source-specific compilations will also be maintained at NARA.

G. The Format of the New Identification of Plan Section

In order to better serve the public, EPA revised the organization of the “Identification of plan” section and included additional information to clarify the enforceable elements of the SIP.

The revised Ohio Identification of plan section contains five subsections:

1. Purpose and scope

2. Incorporation by reference

3. EPA-approved regulations

4. EPA-approved source-specific requirements

5. EPA-approved nonregulatory and quasi-regulatory provisions

H. When a SIP Revision Becomes Federally Enforceable

All revisions to the applicable SIP become Federally enforceable as of the effective date of the revisions to paragraphs (c), (d), or (e) of the applicable Identification of plan section found in each subpart of 40 CFR part 52.

I. The Historical Record of SIP Revision Approvals

To facilitate enforcement of previously approved SIP provisions and provide a smooth transition to the new SIP processing system, EPA retains the original Identification of plan section, previously appearing in the CFR as the first or second section of part 52 for each state subpart. After an initial two-year period, EPA will review its experience with the new system and enforceability of previously approved SIP measures and will decide whether or not to retain the Identification of plan appendices for some further period.

Although EPA is retaining the original Identification of Plan section, other sections of part 52 are duplicative of the new Identification of Plan section. EPA is therefore removing §§ 52.1881(b) “Regulations for the control of sulfur dioxide in the State of Ohio”, 52.1890 “Removed control measures”, 52.1891 “Section 110(a)(2) infrastructure requirements”, and 52.1919 “Identification of plan-conditional approval” as part of the general “housekeeping” discussed below.

II. What is EPA doing in this action?

This action constitutes a “housekeeping” exercise to ensure that all revisions to the state programs that have occurred are accurately reflected in 40 CFR part 52. State SIP revisions are controlled by EPA regulations at 40 CFR part 51.

EPA has determined that this action falls under the “good cause” exemption in section 553(b)(3)(B) of the Administrative Procedures Act (APA) which, upon finding “good cause,” authorizes agencies to dispense with public participation and section 553(d)(3) allows an agency to make a rule effective immediately (thereby avoiding the 30-day delayed effective date otherwise provided for in the APA). This action simply codifies provisions which are already in effect as a matter of law in Federal and approved state programs.

Under Section 553 of the APA, an agency may find good cause where procedures are “impractical, unnecessary, or contrary to the public interest” since the codification only reflects existing law. Likewise, there is no purpose served by delaying the effective date of this action. Immediate notice in the CFR benefits the public by removing outdated citations.

In this rule, EPA is finalizing regulatory text that includes incorporation by reference. In accordance with requirements of 1 CFR 51.5, EPA is finalizing the incorporation by reference of the Ohio Regulations described in the amendments to 40 CFR part 52 set forth below. EPA has made, and will continue to make, these documents generally available electronically through www.regulations.gov and/or in hard copy at the appropriate EPA office (see the ADDRESSES section of this preamble for more information).

III. Statutory and Executive Order Reviews

A. General Requirements

Under Executive Orders 12866 (58 FR 51735, October 4, 1993) and 13563 (76 FR 3821, January 21, 2011), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the SUPPLEMENTARY INFORMATION section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules is discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This action simply codifies provisions which are already in effect as a matter of law in Federal and approved State programs. 5 U.S.C. 808(2). As stated previously, EPA has made such a good cause finding, including the reasons therefore, and established an effective date of November 10, 2015. EPA will submit a report containing this rule and other required information to the U.S. Senate, the U.S. House of Representatives, and the Comptroller General of the United States prior to publication of the rule in the Federal Register. The changes in format to the “Identification of plan” section for Ohio are not a “major rule” as defined by 5 U.S.C. 804(2).

C. Petitions for Judicial Review

EPA has also determined that the provisions of section 307(b)(1) of the CAA pertaining to petitions for judicial review are not applicable to this action. Prior EPA rulemaking actions for each individual component of the Ohio SIP compilations had previously afforded interested parties the opportunity to file a petition for judicial review in the United States Court of Appeals for the appropriate circuit within 60 days of such rulemaking action. Thus, EPA sees no need in this action to reopen the 60-day period for filing such petitions for judicial review for these “Identification of plan” reorganization actions for Ohio.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: August 28, 2015.
Susan Hedman,
Regional Administrator, Region 5.

Part 52 of chapter I, title 40, Code of Federal Regulations, is amended as follows:

PART 52—APPROVAL AND PROMULGATION OF IMPLEMENTATION PLANS

1. The authority for citation for part 52 continues to read as follows:

Authority: 42 U.S.C. 7401 et seq.

Subpart KK—Ohio

§ 52.1870 [Redesignated as § 52.1894]

2. Section 52.1870 is redesignated as § 52.1894 and a new § 52.1870 is added to read as follows:

§ 52.1870 Identification of plan.

(a) Purpose and scope. This section sets forth the applicable State Implementation Plan (SIP) for Ohio under Section 110 of the Clean Air Act, 42 U.S.C. 7401 et seq., and 40 CFR part 51 to meet National Ambient Air Quality Standards.

(b) Incorporation by reference. (1) Material listed in paragraphs (c) and (d) of this section with an EPA approval date prior to September 1, 2015, was approved for incorporation by reference by the Director of the Federal Register in accordance with 5 U.S.C. 552(a) and 1 CFR part 51. Material is incorporated as it exists on the date of the approval, and notice of any change in the material will be published in the Federal Register. Entries in paragraphs (c) and (d) of this section with an EPA approval date after September 1, 2015, will be incorporated by reference in the next update to the SIP compilation.

(2) EPA Region 5 certifies that the rules/regulations provided by EPA in the SIP compilation at the addresses in paragraph (b)(3) of this section are an exact duplicate of the officially promulgated state rules/regulations which have been approved as part of the SIP as of September 1, 2015.

(3) Copies of the materials incorporated by reference may be inspected at the Environmental Protection Agency, Region 5, Air Programs Branch, 77 West Jackson Boulevard, Chicago, IL 60604 or the National Archives and Records Administration (NARA). For information on the availability of this material at NARA, call (202) 741-6030, or go to: http://www.archives.gov/federal-register/cfr/ibr-locations.html.

(c) EPA approved regulations.

EPA-Approved Ohio Regulations
Ohio citation | Title/Subject | Ohio effective date | EPA Approval date | Notes
Chapter 3745-14 Nitrogen Oxides—Reasonably Available Control Technology
3745-14-01 | Definitions and General Provisions | 10/18/2010 | 11/14/2013, 78 FR 68367 |
3745-14-02 | The NOX Authorized Account Representative | 7/18/2002 | 8/5/2003, 68 FR 46089 |
3745-14-03 | The NOX Budget Permit | 5/25/2004 | 6/27/2005, 70 FR 36845 |
3745-14-04 | Compliance Certification | 7/18/2002 | 8/5/2003, 68 FR 46089 |
3745-14-05 | NOX Allowance Allocations | 7/17/2006 | 2/13/2008, 73 FR 8197 |
3745-14-06 | The NOX Allowance Tracking System | 10/18/2010 | 11/14/2013, 78 FR 68367 |
3745-14-07 | NOX Allowance Transfers | 7/18/2002 | 8/5/2003, 68 FR 46089 |
3745-14-08 | Monitoring and Reporting | 7/18/2002 | 8/5/2003, 68 FR 46089 |
3745-14-09 | NOX Budget Opt-in Units | 7/18/2002 | 8/5/2003, 68 FR 46089 |
3745-14-10 | Alternative Compliance Plans | 7/18/2002 | 8/5/2003, 68 FR 46089 |
3745-14-11 | Portland Cement Kilns | 7/18/2002 | 8/5/2003, 68 FR 46089 |
3745-14-12 | Stationary Internal Combustion Engines | 5/7/2005 | 2/4/2008, 73 FR 6427 |
Chapter 3745-15 General Provisions on Air Pollution Control
3745-15-01 | Definitions | 1/22/2009 | 5/10/2010, 75 FR 25770 |
3745-15-02 | Purpose | 1/25/1980 | 10/1/1982, 47 FR 43375 |
3745-15-03 | Submission of Emission Information | 6/30/2008 | 2/20/2013, 78 FR 11748 | Only (A).
3745-15-04 | Measurement of Emissions of Air Contaminants | 1/25/1980 | 10/1/1982, 47 FR 43375 |
3745-15-05 | De Minimis Air Contaminant Source Exemption | 1/22/2009 | 5/10/2010, 75 FR 25770 |
3745-15-06 | Malfunction of Equipment; Scheduled Maintenance; Reporting | 1/25/1980 | 10/1/1982, 47 FR 43375 |
3745-15-07 | Air Pollution Nuisances Prohibited | 5/17/1982 | 8/13/1984, 49 FR 32182 |
3745-15-08 | Circumvention | 1/25/1980 | 10/1/1982, 47 FR 43375 |
3745-15-09 | Severability | 1/25/1980 | 10/1/1982, 47 FR 43375 |
Chapter 3745-16 Stack Height Requirements
3745-16-01 | Definitions | 3/5/1986 | 8/25/1988, 53 FR 32392 |
3745-16-02 | Good Engineering Practice Stack Height Requirements | 3/5/1986 | 8/25/1988, 53 FR 32392 |
Chapter 3745-17 Particulate Matter Standards
3745-17-01 | Definitions | 2/1/2008 | 10/26/2010, 75 FR 65567 |
3745-17-02 | Ambient Air Quality Standards | 2/1/2008 | 10/26/2010, 75 FR 65567 |
3745-17-03 | Measurement Methods and Procedures | 4/18/2009 | 4/3/2013, 78 FR 19990 |
3745-17-04 | Compliance Time Schedules | 2/1/2008 | 12/27/2008, 75 FR 65567 |
3745-17-07 | Control of Visible Particulate Emissions from Stationary Sources | 2/1/2008 | 10/26/2010, 75 FR 65567 | Includes Ohio EPA Engineering Guide 13, revised 6/27/1980, and Engineering Guide 15, revised 7/15/1980.
3745-17-08 | Restriction of Emission of Fugitive Dust | 2/1/2008 | 10/26/2010, 75 FR 65567 |
3745-17-09 | Restrictions on Particulate Emissions and Odors from Incinerators | 2/1/2008 | 10/26/2010, 75 FR 65567 |
3745-17-10 | Restrictions on Particulate Emissions from Fuel Burning Equipment | 2/1/2008 | 10/26/2010, 75 FR 65567 |
3745-17-11 | Restrictions on Particulate Emissions from Industrial Processes | 12/13/2011 | 3/29/2013, 78 FR 19128 |
3745-17-12 | Additional Restrictions on Particulate Emissions from Specific Air Contaminant Sources in Cuyahoga County | 2/1/2008 | 10/26/2010, 75 FR 65567 |
3745-17-13 | Additional Restrictions on Particulate Emissions from Specific Air Contaminant Sources in Jefferson County | 2/1/2008 | 10/26/2010, 75 FR 65567 |
3745-17-14 | Contingency Plan Requirements for Cuyahoga and Jefferson Counties | 4/18/2009 | 10/26/2010, 75 FR 65572 |
Chapter 3745-18 Sulfur Dioxide Regulations
3745-18-01 | Definitions and Incorporation by Reference | 4/3/2011 | 11/19/2013, 78 FR 69299 |
3745-18-02 | Ambient Air Quality Standards; Sulfur Dioxide | 1/23/2006 | 3/21/2008, 73 FR 15083 |
3745-18-03 | Attainment Dates and Compliance Time Schedules | 2/17/2011 | 11/19/2013, 78 FR 69299 |
3745-18-04 | Measurement Methods and Procedures | 2/17/2011 | 11/19/2013, 78 FR 69299 | except (D)(2), (D)(3), (D)(5), (D)(6), (D)(9), (E)(2), (E)(3), and (E)(4).
3745-18-05 | Ambient and Meteorological Monitoring Requirements | 2/17/2011 | 11/19/2013, 78 FR 69299 |
3745-18-06 | General Emission Limit Provisions | 2/17/2011 | 11/19/2013, 78 FR 69299 |
3745-18-07 | Adams County Emission Limits | 2/17/2011 | 11/19/2013, 78 FR 69299 |
3745-18-08 | Allen County Emission Limits | 2/17/2011 | 11/19/2013, 78 FR 69299 |
3745-18-09 | Ashland County Emission Limits | 2/17/2011 | 11/19/2013, 78 FR 69299 |
3745-18-10 | Ashtabula County Emissions Limits | 2/17/2011 | 11/19/2013, 78 FR 69299 |
3745-18-11 | Athens County Emission Limits | 2/17/2011 | 11/19/2013, 78 FR 69299 |
3745-18-12 | Auglaize County Emission Limits | 2/17/2011 | 11/19/2013, 78 FR 69299 |
3745-18-13 | Belmont County Emission Limits | 2/17/2011 | 11/19/2013, 78 FR 69299 |
3745-18-14 | Brown County Emission Limits | 2/17/2011 | 11/19/2013, 78 FR 69299 |
3745-18-15 | Butler County Emission Limits | 2/17/2011 | 11/19/2013, 78 FR 69299 |
3745-18-16 | Carroll County Emission Limits | 2/17/2011 | 11/19/2013, 78 FR 69299 |
3745-18-17 | Champaign County Emission Limits | 2/17/2011 | 11/19/2013, 78 FR 69299 |
3745-18-18 | Clark County Emission Limits | 2/17/2011 | 11/19/2013, 78 FR 69299 |
3745-18-19 | Clermont County Emission Limits | 2/17/2011 | 11/19/2013, 78 FR 69299 |
3745-18-20 | Clinton County Emission Limits | 2/17/2011 | 11/19/2013, 78 FR 69299 |
3745-18-21 | Columbiana County Emission Limits | 2/17/2011 | 11/19/2013, 78 FR 69299 |
3745-18-22 | Coshocton County Emission Limits | 2/17/2011 | 11/19/2013, 78 FR 69299 |
3745-18-23 | Crawford County Emission Limits | 2/17/2011 | 11/19/2013, 78 FR 69299 |
3745-18-24 | Cuyahoga County Emission Limits | 2/17/2011 | 11/19/2013, 78 FR 69299 |
3745-18-25 | Darke County Emission Limits | 2/17/2011 | 11/19/2013, 78 FR 69299 |
3745-18-26 | Defiance County Emission Limits | 2/17/2011 | 11/19/2013, 78 FR 69299 |
3745-18-27 | Delaware County Emission Limits | 2/17/2011 | 11/19/2013, 78 FR 69299 |
3745-18-28 | Erie County Emission Limits | 2/17/2011 | 11/19/2013, 78 FR 69299 |
3745-18-29 | Fairfield County Emission Limits | 2/17/2011 | 11/19/2013, 78 FR 69299 |
3745-18-30 | Fayette County Emission Limits | 2/17/2011 | 11/19/2013, 78 FR 69299 |
3745-18-31 | Franklin County Emission Limits | 2/17/2011 | 11/19/2013, 78 FR 69299 |
3745-18-32 | Fulton County Emission Limits | 2/17/2011 | 11/19/2013, 78 FR 69299 |
3745-18-33 | Gallia County Emission Limits | 2/17/2011 | 11/19/2013, 78 FR 69299 |
3745-18-34 | Geauga County Emission Limits | 2/17/2011 | 11/19/2013, 78 FR 69299 |
3745-18-35 | Greene County Emission Limits | 2/17/2011 | 11/19/2013, 78 FR 69299 |
3745-18-36 | Guernsey County Emission Limits | 2/17/2011 | 11/19/2013, 78 FR 69299 |
3745-18-37 | Hamilton County Emission Limits | 2/17/2011 | 11/19/2013, 78 FR 69299 |
3745-18-38 | Hancock County Emission Limits | 2/17/2011 | 11/19/2013, 78 FR 69299 |
3745-18-39 | Hardin County Emission Limits | 2/17/2011 | 11/19/2013, 78 FR 69299 |
3745-18-40 | Harrison County Emission Limits | 2/17/2011 | 11/19/2013, 78 FR 69299 |
3745-18-41 | Henry County Emission Limits | 2/17/2011 | 11/19/2013, 78 FR 69299 |
3745-18-42 | Highland County Emission Limit | 2/17/2011 | 11/19/2013, 78 FR 69299 |
3745-18-43 | Hocking County Emission Limits | 2/17/2011 | 11/19/2013, 78 FR 69299 |
3745-18-44 | Holmes County Emission Limits | 2/17/2011 | 11/19/2013, 78 FR 69299 |
3745-18-45 | Huron County Emission Limits | 2/17/2011 | 11/19/2013, 78 FR 69299 |
3745-18-46 | Jackson County Emission Limits | 2/17/2011 | 11/19/2013, 78 FR 69299 |
3745-18-47 | Jefferson County Emission Limits | 2/17/2011 | 11/19/2013, 78 FR 69299 |
3745-18-48 | Knox County Emission Limits | 2/17/2011 | 11/19/2013, 78 FR 69299 |
3745-18-49 | Lake County Emission Limits | 2/17/2011 | 11/19/2013, 78 FR 69299 |
3745-18-50 | Lawrence County Emission Limits | 2/17/2011 | 11/19/2013, 78 FR 69299 |
3745-18-51 | Licking County Emission Limits | 2/17/2011 | 11/19/2013, 78 FR 69299 |
3745-18-52 | Logan County Emission Limits | 2/17/2011 | 11/19/2013, 78 FR 69299 |
3745-18-53 | Lorain County Emission Limits | 1/23/2006 | 11/19/2013, 78 FR 69299 |
3745-18-54 | Lucas County Emission Limits | 4/3/2011 | 11/19/2013, 78 FR 69299 |
3745-18-55 | Madison County Emission Limits | 2/17/2011 | 11/19/2013, 78 FR 69299 |
3745-18-56 | Mahoning County Emission Limits | 2/17/2011 | 11/19/2013, 78 FR 69299 |
3745-18-57 | Marion County Emission Limits | 2/17/2011 | 11/19/2013, 78 FR 69299 |
3745-18-58 | Medina County Emission Limits | 2/17/2011 | 11/19/2013, 78 FR 69299 |
3745-18-59 | Meigs County Emission Limits | 2/17/2011 | 11/19/2013, 78 FR 69299 |
3745-18-60 | Mercer County Emission Limits | 2/17/2011 | 11/19/2013, 78 FR 69299 |
3745-18-61 | Miami County Emission Limits | 2/17/2011 | 11/19/2013, 78 FR 69299 |
3745-18-62 | Monroe County Emission Limits | 2/17/2011 | 11/19/2013, 78 FR 69299 |
3745-18-63 | Montgomery County Emission Limits | 2/17/2011 | 11/19/2013, 78 FR 69299 |
3745-18-64 | Morgan County Emission Limits | 2/17/2011 | 11/19/2013, 78 FR 69299 |
3745-18-65 | Morrow County Emission Limits | 2/17/2011 | 11/19/2013, 78 FR 69299 |
3745-18-66 | Muskingum County Emission Limits | 2/17/2011 | 11/19/2013, 78 FR 69299 |
3745-18-67 | Noble County Emission Limits | 2/17/2011 | 11/19/2013, 78 FR 69299 |
3745-18-68 | Ottawa County Emission Limits | 2/17/2011 | 11/19/2013, 78 FR 69299 |
3745-18-69 | Paulding County Emission Limits | 2/17/2011 | 11/19/2013, 78 FR 69299 |
3745-18-70 | Perry County Emission Limits | 2/17/2011 | 11/19/2013, 78 FR 69299 |
3745-18-71 | Pickaway County Emission Limits | 2/17/2011 | 11/19/2013, 78 FR 69299 |
3745-18-72 | Pike County Emission Limits | 2/17/2011 | 11/19/2013, 78 FR 69299 |
3745-18-73 | Portage County Emission Limits | 2/17/2011 | 11/19/2013, 78 FR 69299 |
3745-18-74 | Preble County Emission Limits | 2/17/2011 | 11/19/2013, 78 FR 69299 |
3745-18-75 | Putnam County Emission Limits | 2/17/2011 | 11/19/2013, 78 FR 69299 |
3745-18-76 | Richland County Emission Limits | 2/17/2011 | 11/19/2013, 78 FR 69299 |
3745-18-77 | Ross County Emission Limits | 2/17/2011 | 11/19/2013, 78 FR 69299 |
3745-18-78 | Sandusky County Emission Limits | 1/23/2006 | 11/19/2013, 78 FR 69299 |
3745-18-79 | Scioto County Emission Limits | 2/17/2011 | 11/19/2013, 78 FR 69299 |
3745-18-80 | Seneca County Emission Limits | 1/23/2006 | 11/19/2013, 78 FR 69299 |
3745-18-81 | Shelby County Emission Limits | 2/17/2011 | 11/19/2013, 78 FR 69299 |
3745-18-82 | Stark County Emission Limits | 4/3/2011 | 11/19/2013, 78 FR 69299 |
3745-18-83 | Summit County Emission Limits | 2/17/2011 | 11/19/2013, 78 FR 69299 |
3745-18-84 | Trumbull County Emission Limits | 2/17/2011 | 11/19/2013, 78 FR 69299 |
3745-18-85 | Tuscarawas County Emission Limits | 2/17/2011 | 11/19/2013, 78 FR 69299 |
3745-18-86 | Union County Emission Limits | 2/17/2011 | 11/19/2013, 78 FR 69299 |
3745-18-87 | Van Wert County Emission Limits | 2/17/2011 | 11/19/2013, 78 FR 69299 |
3745-18-88 | Vinton County Emission Limits | 2/17/2011 | 11/19/2013, 78 FR 69299 |
3745-18-89 | Warren County Emission Limits | 2/17/2011 | 11/19/2013, 78 FR 69299 |
3745-18-90 | Washington County Emission Limits | 1/23/2006 | 11/19/2013, 78 FR 69299 |
3745-18-91 | Wayne County Emission Limits | 2/17/2011 | 11/19/2013, 78 FR 69299 |
3745-18-92 | Williams County Emission Limits | 2/17/2011 | 11/19/2013, 78 FR 69299 |
3745-18-93 | Wood County Emission Limits | 2/17/2011 | 11/19/2013, 78 FR 69299 |
3745-18-94 | Wyandot County Emission Limits | 2/17/2011 | 11/19/2013, 78 FR 69299 |
Chapter 3745-19 Open Burning Standards
3745-19-01 | Definitions | 7/7/2006 | 3/21/2008, 73 FR 15081 |
3745-19-02 | Relations to Other Prohibitions | 7/7/2006 | 3/21/2008, 73 FR 15081 |
3745-19-03 | Open Burning in Restricted Areas | 7/7/2006 | 3/21/2008, 73 FR 15081 |
3745-19-04 | Open Burning in Unrestricted Areas | 7/7/2006 | 3/21/2008, 73 FR 15081 |
3745-19-05 | Permission to Individuals and Notification to the Ohio EPA | 7/7/2006 | 3/21/2008, 73 FR 15081 |
Chapter 3745-21 Carbon Monoxide, Ozone, Hydrocarbon Air Quality Standards, and Related Emission Requirements
3745-21-01 | Definitions | 5/12/2011 | 4/29/2013, 78 FR 24990 |
3745-21-02 | Ambient Air Quality Standards and Guidelines | 8/25/2008 | 7/28/2009, 74 FR 37171 |
3745-21-03 | Methods of Ambient Air Quality Measurement | 8/25/2008 | 7/28/2009, 74 FR 37171 |
3745-21-04 | Compliance Time Schedules | 4/2/2009 | 7/28/2009, 74 FR 37171 |
3745-21-06 | Classification of Regions | 8/25/2008 | 7/28/2009, 74 FR 37171 |
3745-21-07 | Control of Emissions of Organic Materials from Stationary Sources (i.e., Emissions That Are Not Regulated by Rule 3745-21-09, 3745-21-12, 3745-21-13, 3745-21-14, 3745-21-15, 3745-21-16, or 3745-21-18 of the Administrative Code) | 2/18/2008 | 8/19/2011, 76 FR 51901 |
3745-21-08 | Control of Carbon Monoxide Emissions from Stationary Sources | 8/25/2008 | 7/28/2009, 74 FR 37171 |
3745-21-09 | Control of Emissions of Volatile Organic Compounds from Stationary Sources and Perchloroethylene from Dry Cleaning Facilities | 5/12/2011 | 4/29/2013, 78 FR 24990 | except (U)(1)(h).
3745-21-10 | Compliance Test Methods and Procedures | 8/25/2008 | 7/28/2009, 74 FR 37171 |
3745-21-12 | Control of Volatile Organic Compound Emissions from Commercial Bakery Oven Facilities | 8/25/2008 | 7/28/2009, 74 FR 37171 |
3745-21-13 | Control of Volatile Organic Compound Emissions from Reactors and Distillation Units Employed in SOCMI Chemical Production | 8/25/2008 | 7/28/2009, 74 FR 37171 |
3745-21-14 | Control of Volatile Organic Compound Emissions from Process Vents in Batch Operations | 4/2/2009 | 7/28/2009, 74 FR 37171 |
3745-21-15 | Control of Volatile Organic Compound Emissions from Wood Furniture Manufacturing Operations | 8/25/2008 | 7/28/2009, 74 FR 37171 |
3745-21-16 | Control of Volatile Organic Compound Emissions from Industrial Wastewater | 4/2/2009 | 7/28/2009, 74 FR 37171 |
3745-21-17 | Portable Fuel Containers | 6/21/2007 | 10/14/2009, 74 FR 52691 |
3745-21-18 | Commercial Motor Vehicle and Mobile Equipment Refinishing Operations | 4/2/2009 | 7/28/2009, 74 FR 37171 |
3745-21-19 | Control of Volatile Organic Compound Emissions from Aerospace Manufacturing and Rework Facilities | 8/25/2008 | 7/28/2009, 74 FR 37171 |
3745-21-20 | Control of Volatile Organic Emissions from Shipbuilding and Ship Repair Operations (Marine Coatings) | 8/25/2008 | 7/28/2009, 74 FR 37171 |
3745-21-21 | Storage of Volatile Organic Liquids in Fixed Roof Tanks and External Floating Roof Tanks | 5/12/2011 | 4/29/2013, 78 FR 24990 |
3745-21-22 | Control of Volatile Organic Compound Emissions from Offset Lithographic Printing and Letterpress Printing Facilities | 2/10/2010 | 4/6/2011, 73 FR 18893 |
3745-21-23 | Control of Volatile Organic Compound Emissions from Industrial Solvent Cleaning Operations | 5/12/2011 | 4/29/2013, 78 FR 24990 |
3745-21-24 | Flat Wood Paneling Coatings | 5/12/2011 | 4/29/2013, 78 FR 24990 |
3745-21-25 | Control of VOC Emissions from Reinforced Plastic Composites Production Operations | 11/11/2010 | 7/13/2011, 76 FR 41086 |
3745-21-27 | Boat Manufacturing | 5/12/2011 | 4/29/2013, 78 FR 24990 |
3745-21-28 | Miscellaneous Industrial Adhesives and Sealants | 5/12/2011 | 4/29/2013, 78 FR 24990 |
3745-21-29 | Control of Volatile Organic Compound Emissions from Automobile and Light-duty Truck Assembly Coating Operations, Heavier Vehicle Assembly Coating Operations, and Cleaning Operations Associated with these Coating Operations | 5/12/2011 | 4/29/2013, 78 FR 24990 |
Chapter 3745-23 Nitrogen Oxide Standards
3745-23-01 | Definitions | 4/18/2009 | 10/26/2010, 75 FR 65572 |
3745-23-02 | Methods of Measurement | 4/18/2009 | 10/26/2010, 75 FR 65572 |
Chapter 3745-24 Nitrogen Oxide Emission Statements
3745-24-01 | Definitions | 12/16/2005 | 9/27/2007, 72 FR 54844 |
3745-24-02 | Applicability | 12/16/2005 | 9/27/2007, 72 FR 54844 |
3745-24-03 | Deadlines for the Submission of the Emission Statements | 12/16/2005 | 9/27/2007, 72 FR 54844 |
3745-24-04 | Emission Statement Requirements | 4/1/1994 | 10/13/1994, 59 FR 51863 |
Chapter 3745-25 Emergency Episode Standards
3745-25-01 | Definitions | 4/18/2009 | 10/26/2010, 75 FR 65572 |
3745-25-02 | Ambient Air Quality Standards | 4/18/2009 | 10/26/2010, 75 FR 65572 |
3745-25-03 | Air Pollution Emergencies and Episode Criteria | 8/21/2009 | 10/26/2010, 75 FR 65572 |
3745-25-04 | Air Pollution Emergency Emission Control Action Programs | 4/18/2009 | 10/26/2010, 75 FR 65572 |
3745-25-05 | Air Pollution Emergency Orders | 4/18/2009 | 10/26/2010, 75 FR 65572 |
Chapter 3745-26 I/M Program Rules and Regulations
3745-26-01 | Definitions | 8/15/1996 | 1/6/1997, 62 FR 646 |
3745-26-02 | Obligations of the Motor Vehicle Owner in the Anti-tampering and Basic Automobile Inspection and Maintenance Programs | 6/13/1994 | 4/4/1995, 60 FR 16989 |
3745-26-03 | Inspection Station Licensing Procedure | 5/15/1990 | 12/17/1993, 58 FR 65933 |
3745-26-04 | Licensed Inspection Station Requirements and Obligations | 5/15/1990 | 12/17/1993, 58 FR 65933 |
3745-26-05 | Provisions for Qualification as a Class B Inspection Station | 5/15/1990 | 12/17/1993, 58 FR 65933 |
3745-26-06 | Requirements for Certified Inspectors | 5/15/1990 | 12/17/1993, 58 FR 65933 |
3745-26-07 | Suspension or Revocation of Inspection Station License or Inspector Certification | 5/15/1990 | 12/17/1993, 58 FR 65933 |
3745-26-08 | Procedure for Station Change of Ownership, Name, or Location, or Cessation of Inspection Operation | 5/15/1990 | 12/17/1993, 58 FR 65933 |
3745-26-09 | Fee System | 5/15/1990 | 12/17/1993, 58 FR 65933 |
3745-26-10 | Requirements for Contractors in the Basic Enhanced or Opt-in Enhanced Automobile Inspection and Maintenance Program | 6/13/1994 | 4/4/1995, 60 FR 16989 |
3745-26-11 | Inspection Requirements | 5/15/1990 | 12/17/1993, 58 FR 65933 |
3745-26-12 | Requirements for Motor Vehicle Owners in the Enhanced or Opt-in Enhanced Automobile Inspection and Maintenance Program | 8/15/1996 | 1/6/1997, 62 FR 646 |
3745-26-13 | Requirements for Certified Inspectors in the Enhanced or Opt-in Enhanced Automobile Inspection and Maintenance Program | 6/13/1994 | 4/4/1995, 60 FR 16989 |
3745-26-14 | Enforcement of Program Rules and Regulations for the Enhanced or Opt-in Enhanced Automobile Inspection and Maintenance Program | 6/13/1994 | 4/4/1995, 60 FR 16989 |
Chapter 3745-31 Permit-to Install New Sources and Permit-to-Install and Operate Program
3745-31-01 | Definitions | 5/29/2014 | 6/25/2015, 80 FR 36477 | Except for (I), (SSS)(1)(b), (QQQQ), (JJJJJ), (BBBBBB).
3745-31-02 | Applicability, Requirements, and Obligations | 5/29/2014 | 6/25/2015, 80 FR 36477 |
3745-31-03 | Exemptions | 6/30/2008 | 2/20/2013, 78 FR 11748 |
3745-31-04 | Applications | 5/29/2014 | 6/25/2015, 80 FR 36477 |
3745-31-05 | Criteria for Decision by the Director | 11/30/2001 | 1/22/2003, 68 FR 2909 |
3745-31-06 | Completeness Determinations, Processing Requirements, Public Participation, Public Notice, and Issuance | 5/29/2014 | 6/25/2015, 80 FR 36477 |
3745-31-07 | Termination, Revocation, Expiration, Renewal, Revision and Transfer | 5/29/2014 | 6/25/2015, 80 FR 36477 |
3745-31-08 | Registration Status Permit-to-operate | 5/29/2014 | 6/25/2015, 80 FR 36477 |
3745-31-09 | Variances on Operation | 5/29/2014 | 6/25/2015, 80 FR 36477 |
3745-31-10 | NSR Projects at Existing Emissions Units at a Major Stationary Source | 5/29/2014 | 6/25/2015, 80 FR 36477 |
3745-31-11 | Attainment Provisions—Ambient Air Increments, Ceilings, and Classifications | 5/29/2014 | 6/25/2015, 80 FR 36477 |
3745-31-12 | Attainment Provisions—Data Submission Requirements | 5/29/2014 | 6/25/2015, 80 FR 36477 |
3745-31-13 | Attainment Provisions—Review of Major Stationary Sources and Major Modifications, Stationary Source Applicability and Exemptions | 5/29/2014 | 10/28/2014, 79 FR 64119 |
3745-31-14 | Attainment Provisions—Preapplication Analysis | 5/29/2014 | 6/25/2015, 80 FR 36477 |
3745-31-15 | Attainment Provisions—Control Technology Review | 5/29/2014 | 6/25/2015, 80 FR 36477 |
3745-31-16 | Attainment Provisions—Major Stationary Source Impact Analysis | 5/29/2014 | 10/28/2014, 79 FR 64119 |
3745-31-17 | Attainment Provisions—Additional Impact Analysis | 5/29/2014 | 6/25/2015, 80 FR 36477 |
3745-31-18 | Attainment Provisions—Air Quality Models | 5/29/2014 | 6/25/2015, 80 FR 36477 |
3745-31-19 | Attainment Provisions—Notice to the United States Environmental Protection Agency | 5/29/2014 | 6/25/2015, 80 FR 36477 |
3745-31-20 | Attainment Provisions—Innovative Control Technology | 5/29/2014 | 6/25/2015, 80 FR 36477 |
3745-31-21 | Nonattainment Provisions—Review of Major Stationary Sources and Major Modifications—Stationary Source Applicability and Exemptions | 5/29/2014 | 6/25/2015, 80 FR 36477 |
3745-31-22 | Nonattainment Provisions—Conditions for Approval | 5/29/2014 | 6/25/2015, 80 FR 36477 | Except for (A)(3)(b).
3745-31-23 | Nonattainment provisions—stationary sources locating in designated clean or unclassifiable areas which would cause or contribute to a violation of a national ambient air quality standard | 5/29/2014 | 6/25/2015, 80 FR 36477 | Except for the 1-hour NO2 Significant Impact Level in the table in paragraph (A).
3745-31-24 | Nonattainment Provisions—Baseline for Determining Credit for Emission and Air Quality Offsets | 5/29/2014 | 6/25/2015, 80 FR 36477 | Except for (F).
3745-31-25 | Nonattainment provisions—location of offsetting emissions | 5/29/2014 | 6/25/2015, 80 FR 36477 |
3745-31-26 | Nonattainment Provisions—Offset Ratio Requirements | 5/29/2014 | 6/25/2015, 80 FR 36477 | Except for (D).
3745-31-27 | Nonattainment Provisions—Administrative Procedures for Emission Offsets | 5/29/2014 | 6/25/2015, 80 FR 36477 | Except for (A)(1)(b).
3745-31-29 | General Permit-to-install and General PTIO | 5/29/2014 | 6/25/2015, 80 FR 36477 |
3745-31-32 | Plantwide Applicability Limit (PAL) | 5/29/2014 | 6/25/2015, 80 FR 36477 |
Chapter 3745-45 Permit Fees
3745-45-01 | Definitions | 11/24/1973 | 11/24/1981, 46 FR 57490 |
3745-45-02 | Certification Fees | 11/24/1973 | 11/24/1981, 46 FR 57490 |
3745-45-03 | Water Discharge Permit Fees | 11/24/1973 | 11/24/1981, 46 FR 57490 |
3745-45-04 | Air Contaminant Source Operation Permit and Variance Fees | 11/24/1973 | 11/24/1981, 46 FR 57490 |
3745-45-05 | Exemptions | 11/24/1973 | 11/24/1981, 46 FR 57490 |
Chapter 3745-47 Procedural Rules
3745-47-01 | Applicability | 6/30/1981 | 1/10/2003, 68 FR 1366 |
3745-47-02 | Construction of Rules and Regulations | 6/30/1981 | 1/10/2003, 68 FR 1366 |
3745-47-03 | Definitions | 6/30/1981 | 1/10/2003, 68 FR 1366 |
3745-47-05 | Draft or Proposed Action | 6/30/1981 | 1/10/2003, 68 FR 1366 |
3745-47-07 | Notice | 6/30/1981 | 1/10/2003, 68 FR 1366 |
3745-47-08 | Contents of Public Notices | 6/30/1981 | 1/10/2003, 68 FR 1366 | Only (D).
Chapter 3745-71 Lead Emissions
3745-71-01 | Definitions and Reference to Materials | 10/4/1994 | 10/27/1995, 60 FR 54946 |
3745-71-03 | Methods of Ambient Air Measurement | 10/4/1994 | 10/27/1995, 60 FR 54946 |
3745-71-05 | Emissions Test Methods and Procedures and Reporting Requirements for New and Existing Sources | 10/4/1994 | 10/27/1995, 60 FR 54946 |
3745-71-06 | Source Specific Emission Limits | 10/4/1994 | 10/27/1995, 60 FR 54946 |
Chapter 3745-72 Low Reid Vapor Pressure Fuel Requirements
3745-72-01 | Applicability | 7/17/2006 | 5/25/2007, 72 FR 29269 | Only (A) to (D).
3745-72-02 | Definitions | 5/12/2011 | 4/29/2013, 78 FR 24990 |
3745-72-03 | Gasoline Volatility Standards and General Provisions | 1/16/2006 | 5/25/2007, 72 FR 29269 |
3745-72-04 | Transfer Documentation and Recordkeeping | 1/16/2006 | 5/25/2007, 72 FR 29269 |
3745-72-05 | Liability | 5/12/2011 | 4/29/2013, 78 FR 24990 |
3745-72-06 | Defenses | 5/12/2011 | 4/29/2013, 78 FR 24990 |
3745-72-07 | Special Provisions for Alcohol Blends | 1/16/2006 | 5/25/2007, 72 FR 29269 |
3745-72-08 | Quality Assurance and Test Methods | 1/16/2006 | 5/25/2007, 72 FR 29269 |
Chapter 3745-75 Infectious Waste Incinerator Limitations
3745-75-01 | Applicability, Definitions, and Reference to Materials | 3/23/2004 | 7/5/2007, 72 FR 36605 |
3745-75-02 | Emission Limits | 3/23/2004 | 7/5/2007, 72 FR 36605 | Except (I)(1), (I)(2), (I)(4), and (I)(7).
3745-75-03 | Design Parameters and Operating Restrictions | 3/23/2004 | 7/5/2007, 72 FR 36605 |
3745-75-04 | Monitoring Requirements | 3/23/2004 | 7/5/2007, 72 FR 36605 |
3745-75-05 | Recordkeeping and Inspections | 3/23/2004 | 7/5/2007, 72 FR 36605 |
3745-75-06 | Certification and Compliance Time Schedules | 3/23/2004 | 7/5/2007, 72 FR 36605 |
Chapter 3745-101 Transportation Conformity
3745-101-02 | Definitions | 2/16/1999 | 5/30/2000, 65 FR 34395 |
3745-101-03 | Applicability, Priority, and Frequency of Conformity Determinations | 2/16/1999 | 5/30/2000, 65 FR 34395 | Only (A), (B), (C), (D), (G), (H), (I), (J), (K), and (L).
3745-101-05 | Content of Transportation Plans | 2/16/1999 | 5/30/2000, 65 FR 34395 |
3745-101-06 | Relationship with NEPA and Fiscal Constraints | 2/16/1999 | 5/30/2000, 65 FR 34395 |
3745-101-07 | Criteria and Procedures for Conformity Determination, Assumptions, Emissions Model, and Consultation | 2/16/1999 | 5/30/2000, 65 FR 34395 | Only (A), (B), and (C) Except (C)(1)(a) and (C)(2)(a).
3745-101-08 | Criteria and Procedures for Implementation of TCMs, Current Conformity, and Projects from a Plan and TIP | 2/16/1999 | 5/30/2000, 65 FR 34395 |
3745-101-09 | Localized CO and PM10 Violations and Compliance with PM10 Control Measures | 2/16/1999 | 5/30/2000, 65 FR 34395 |
3745-101-10 | Motor Vehicle Emissions Budgets | 2/16/1999 | 5/30/2000, 65 FR 34395 |
3745-101-11 | Criteria and Procedures: Emission Reductions in Areas without Motor Vehicle Emissions Budgets | 2/16/1999 | 5/30/2000, 65 FR 34395 |
3745-101-12 | Consequences of Control Strategy Implementation Plan Failures | 2/16/1999 | 5/30/2000, 65 FR 34395 | Except for (A)(2).
3745-101-13 | Requirements for Adoption or Approval of Projects by Other Recipients of Funds Designated Under Title 23 U.S.C. or the Federal Transit Laws | 2/16/1999 | 5/30/2000, 65 FR 34395 | Except for (A)(1).
3745-101-14 | Procedures for Determining Regional Transportation-related Emissions | 2/16/1999 | 5/30/2000, 65 FR 34395 |
3745-101-15 | Procedures for Determining Localized CO and PM10 Concentrations (Hot-spot Analysis) | 2/16/1999 | 5/30/2000, 65 FR 34395 |
3745-101-17 | Enforceability of Design Concept and Scope and Project-level Mitigation and Control Measures | 2/16/1999 | 5/30/2000, 65 FR 34395 |
3745-101-18 | Exempt Projects | 2/16/1999 | 5/30/2000, 65 FR 34395 |
3745-101-19 | Traffic Signal Synchronization Projects | 2/16/1999 | 5/30/2000, 65 FR 34395 |
Chapter 3745-102 General Federal Action Conformity
3745-102-01 | Purpose | 8/21/1995 | 3/11/1996, 61 FR 9644 |
3745-102-02 | Definitions | 8/21/1995 | 3/11/1996, 61 FR 9644 |
3745-102-03 | Applicability | 8/21/1995 | 3/11/1996, 61 FR 9644 |
3745-102-04 | Analysis, Other Requirements | 8/21/1995 | 3/11/1996, 61 FR 9644 |
3745-102-05 | Conformity Determinations | 8/21/1995 | 3/11/1996, 61 FR 9644 |
3745-102-06 | Mitigation of Air Quality Impacts | 8/21/1995 | 3/11/1996, 61 FR 9644 |
Chapter 3745-109 Emissions Trading Programs
3745-109-01 | CAIR NOX Annual, CAIR SO2, and CAIR NOX Ozone Season Trading Programs Definitions and General Provisions | 7/16/2009 | 11/24/2009, 74 FR 48857 |
3745-109-02 | CAIR Designated Representative for CAIR NOX Sources | 9/27/2007 | 9/25/2009, 74 FR 48857 |
3745-109-03 | Permits | 9/27/2007 | 9/25/2009, 74 FR 48857 |
3745-109-04 | CAIR NOX Allowance Allocations | 7/16/2009 | 9/25/2009, 74 FR 48857 |
3745-109-05 | CAIR NOX Allowance Tracking System | 9/27/2007 | 9/25/2009, 74 FR 48857 |
3745-109-06 | CAIR NOX Allowance Transfers | 9/27/2007 | 9/25/2009, 74 FR 48857 |
3745-109-07 | Monitoring and Reporting | 7/16/2009 | 9/25/2009, 74 FR 48857 |
3745-109-08 | CAIR NOX Opt-in Units | 7/16/2009 | 9/25/2009, 74 FR 48857 |
3745-109-09 | CAIR Designated Representative for CAIR SO2 Sources | 9/27/2007 | 9/25/2009, 74 FR 48857 |
3745-109-10 | Permits | 9/27/2007 | 9/25/2009, 74 FR 48857 |
3745-109-11 | CAIR SO2 Allowance Tracking System | 7/16/2009 | 9/25/2009, 74 FR 48857 |
3745-109-12 | CAIR SO2 Allowance Transfers | 7/16/2009 | 9/25/2009, 74 FR 48857 |
3745-109-13 | Monitoring and Reporting | 7/16/2009 | 9/25/2009, 74 FR 48857 |
3745-109-14 | CAIR SO2 Opt-in Units | 7/16/2009 | 9/25/2009, 74 FR 48857 |
3745-109-15 | CAIR Designated Representative for CAIR NOX Ozone Season Sources | 9/27/2007 | 9/25/2009, 74 FR 48857 |
3745-109-16 | Permits | 9/27/2007 | 9/25/2009, 74 FR 48857 |
3745-109-17 | CAIR NOX Ozone Season Allowance Allocations | 7/16/2009 | 9/25/2009, 74 FR 48857 |
3745-109-18 | CAIR NOX Ozone Season Allowance Tracking System | 7/16/2009 | 9/25/2009, 74 FR 48857 |
3745-109-19 | CAIR NOX Ozone Season Allowance Transfers | 7/16/2009 | 9/25/2009, 74 FR 48857 |
3745-109-20 | Monitoring and Reporting | 7/16/2009 | 9/25/2009, 74 FR 48857 |
3745-109-21 | CAIR NOX Ozone Season Opt-in Units | 7/16/2009 | 9/25/2009, 74 FR 48857 |
Chapter 3745-112 Volatile Organic Compound Limits in Consumer Products
3745-112-01 | Definitions | 9/15/2007 | 8/13/2009, 74 FR 40745 |
3745-112-02 | Applicability | 9/15/2007 | 8/13/2009, 74 FR 40745 |
3745-112-03 | Standards | 9/15/2007 | 8/13/2009, 74 FR 40745 |
3745-112-04 | Exemptions | 9/15/2007 | 8/13/2009, 74 FR 40745 |
3745-112-05 | Administrative Requirements | 9/15/2007 | 8/13/2009, 74 FR 40745 |
3745-112-06 | Reporting Requirements | 9/15/2007 | 8/13/2009, 74 FR 40745 |
3745-112-07 | Variances | 9/15/2007 | 8/13/2009, 74 FR 40745 |
3745-112-08 | Test Methods | 9/15/2007 | 8/13/2009, 74 FR 40745 |

(d) EPA approved state source-specific requirements.

EPA-Approved Ohio Source-Specific Provisions
Name of source | Number | Ohio effective date | EPA Approval date | Comments
AK Steel Corporation | Director's Final Findings and Orders (DFFO) | 8/18/1995 | 4/25/1996, 61 FR 18255 |
Excello Specialty | PTI 13-2396 | 12/11/1991 | 4/25/1996, 61 FR 18255 |
Ford-Cleveland Casting | DFFO | 7/10/1995 | 5/6/1996, 61 FR 20139 |
Ford-Engine Plant 1 | DFFO | 5/31/1996 | 2/25/1997, 62 FR 8383 |
Hilton Davis | PTI 14-2096 | 6/12/1991 | 4/25/1996, 61 FR 18255 |
International Mill Services | DFFO | 7/12/1995 | 5/6/1996, 61 FR 20139 |
International Paper Company | DFFO | 8/18/1995 | 4/25/1996, 61 FR 18255 |
Luria Brothers | DFFO | 7/10/1995 | 5/6/1996, 61 FR 20139 |
Midwest Mica & Insulation Co | DFFO | 8/18/1995 | 4/25/1996, 61 FR 18255 |
Morgan Adhesives Co | DFFO | 7/5/2000 | 4/17/2001, 74 FR 19721 |
P.H. Glatfelter Co.-Chillicothe | PTI P0103673 | 3/7/2011 | 7/2/2012, 77 FR 39177 | Regional haze BART emissions limits.
Reilly Industries, Inc | DFFO | 8/18/1995 | 4/25/1996, 61 FR 18255 |
Sprayon Products, Inc | DFFO | 8/18/1995 | 4/25/1996, 61 FR 18255 |
T&B Foundry Company | DFFO | 7/10/1995 | 5/6/1996, 61 FR 20139 |
United Ready Mix | DFFO | 7/10/1995 | 5/6/1996, 61 FR 20139 |
Wheeling-Pittsburg Steel Corporation | DFFO | 10/31/1995 | 6/12/1996, 61 FR 29662 |

(e) EPA approved nonregulatory and quasi-regulatory provisions.

EPA-Approved Ohio Nonregulatory and Quasi-Regulatory Provisions
Title | Applicable geographical or non-attainment area | State date | EPA approval | Comments
Legislative Provisions
Authority to Require NSR Permits | Statewide |  | 1/25/1982 | ORC 3704.03 (F).
Local Permits for Burning Construction Debris | Statewide |  | 7/15/1985 | ORC 3704.11 (C).
Ohio EPA Authority | Statewide |  | 1/25/1982 | ORC 3704 (summary).
Requirements for Board Members | Statewide |  | 1/25/1982 | ORC 102 (summary).
Definition of Air Contaminant | Statewide |  |  | ORC 3704.01 (B); submitted 8/26/1982.
Summary of Criteria Pollutant Maintenance Plan
Ozone 1-Hour | Cincinnati (Butler, Clermont, Hamilton, and Warren Counties) | 6/28/1999 | 7/5/2000, 65 FR 37879 |
Ozone 1-Hour | Columbiana County | 3/25/1994 | 3/10/1995, 59 FR 48395 |
Ozone 1-Hour | Columbus (Franklin, Delaware and Licking Counties) | 1/1/1994 | 4/1/1996, 61 FR 3591 |
Ozone 1-Hour | Dayton-Springfield (Miami, Montgomery, Clark, and Greene Counties) | 11/8/1993 | 7/5/1995, 60 FR 22289 |
Ozone 1-Hour | Jefferson County | 3/25/1994 | 3/10/1995, 58 FR 66334 |
Ozone 1-Hour | Youngstown (Mahoning and Trumbull Counties) and Canton (Stark County) | 3/25/1994 | 4/1/1996, 61 FR 3319 |
Ozone 8-Hour | Canton (Stark County) | 6/20/2006 | 6/15/2007, 72 FR 27648 |
Ozone 8-Hour | Cincinnati (Butler, Clermont, Clinton, Hamilton, and Warren Counties) | 12/14/2009 | 5/11/2010, 75 FR 26118 |
Ozone 8-Hour | Cleveland (Ashtabula, Cuyahoga, Geauga, Lake, Lorain, Medina, Portage, and Summit Counties) | 3/17/2009 | 9/15/2009, 74 FR 47414 |
Ozone 8-Hour | Columbiana County | 2/15/2007 | 6/12/2007, 72 FR 32190 |
Ozone 8-Hour | Columbus (Delaware, Fairfield, Franklin, Knox, Licking, and Madison Counties) | 3/17/2009 | 9/15/2009, 74 FR 47404 |
Ozone 8-Hour | Dayton-Springfield (Miami, Montgomery, Clark, and Greene Counties) | 11/6/2006 | 8/13/2007, 72 FR 45169 |
Ozone 8-Hour | Lima (Allen County) | 6/20/2006 | 6/15/2007, 72 FR 27648 | Correction: 72 FR 36599, effective 7/5/2007.
Ozone 8-Hour | Parkersburg-Marietta (Washington County) | 9/22/2006 | 6/15/2007, 72 FR 27652 | Correction: 72 FR 36599, effective 7/5/2007.
Ozone 8-Hour | Steubenville-Weirton (Jefferson County) | 7/31/2006 | 6/15/2007, 72 FR 27640 | Correction: 72 FR 36599, effective 7/5/2007.
Ozone 8-Hour | Toledo (Lucas and Wood Counties) | 12/22/2006 | 8/9/2007, 72 FR 44784 |
Ozone 8-Hour | Wheeling (Belmont County) | 6/20/2006 | 6/15/2007, 72 FR 27644 | Correction: 72 FR 36599, effective 7/5/2007
Ozone 8-Hour | Youngstown (Mahoning and Trumbull Counties) | 2/15/2007 | 6/12/2007, 72 FR 32190 |
PM-10 | Cuyahoga and Jefferson Counties | 5/22/2000 | 1/10/2001, 65 FR 77308 |
PM2.5 (1997) | Canton (Stark County) | 6/26/2012 | 10/22/2013, 78 FR 62459 |
PM2.5 (1997) | Cincinnati (Butler, Clermont, Hamilton, and Warren Counties) | 1/25/2011 | 12/23/2011, 76 FR 80253 |
PM2.5 (1997) | Cleveland (Ashtabula, Cuyahoga, Lake, Lorain, Medina, Portage, and Summit Counties) | 10/5/2011 | 9/18/2013, 78 FR 57270 |
PM2.5 (1997) | Columbus (Coshocton, Delaware, Fairfield, Franklin, and Licking Counties) | 6/3/2011 | 11/7/2013, 78 FR 66845 |
PM2.5 (1997) | Dayton-Springfield (Clark, Greene, and Montgomery Counties) | 6/1/2011 | 9/26/2013, 78 FR 59258 |
PM2.5 (1997) | Huntington-Ashland (Adams, Gallia, Lawrence, and Scioto Counties) | 5/4/2011 | 12/31/2012, 77 FR 76883 |
PM2.5 (1997) | Parkersburg-Marietta (Washington County) | 2/29/2012 | 8/29/2013, 78 FR 53275 |
PM2.5 (1997) | Steubenville-Weirton (Jefferson County) | 4/16/2012 | 9/18/2013, 78 FR 57273 |
PM2.5 (1997) | Wheeling (Belmont County) | 4/16/2012 | 8/29/2013, 78 FR 53275 |
PM2.5 (2006) | Canton (Stark County) | 6/26/2012 | 10/22/2013, 78 FR 62459 |
PM2.5 (2006) | Cleveland (Cuyahoga, Lake, Lorain, Medina, Portage, and Summit Counties) | 5/30/2012 | 9/18/2013, 78 FR 57270 |
PM2.5 (2006) | Steubenville-Weirton (Jefferson County) | 4/16/2012 | 9/18/2013, 78 FR 57273 |
SO2 (1971) | Center Township (Morgan County) and Waterford Township (Washington County) | 6/25/1992 | 9/21/1994, 59 FR 48403 |
SO2 (1971) | Lake County and Steubenville/Mingo Junction (Jefferson County) | 10/26/1995 | 8/30/1999, 64 FR 47113 |
SO2 (1971) | Franklin Township (Coshocton County), Addison Township (Gallia County), and Lorain County | 3/20/2000 | 6/5/2000, 65 FR 35577 |
SO2 (1971) | Cuyahoga and Lucas Counties | 9/27/2003 | 7/8/2004, 69 FR 41342 |
CO (1979) | Cleveland (Cuyahoga County) | 10/20/2005 | 6/1/2006, 71 FR 31097 |
Lead (2008) | Bellefontaine (Logan County) | 10/29/2013 | 7/28/2014, 79 FR 43655 | Includes approval of the 10/29/2013 emissions inventory.
Infrastructure Requirements
Section 110(a)(2) infrastructure requirements for the 1997 8-hour ozone NAAQS | Statewide | 12/5/2007 | 7/13/2011, 76 FR 41075 | Addresses the following CAA elements: 110(a)(2)(A))-(C), (D)(ii), (E)-(H), and (J)-(M).
Section 110(a)(2) infrastructure requirements for the 1997 PM2.5 NAAQS | Statewide | 12/5/2007 | 7/13/2011, 76 FR 41075 | Addresses the following CAA elements: 110(a)(2)(A)-(C), (D)(ii), (E)-(H), and (J)-(M).
Section 110(a)(2) infrastructure requirements for the 2006 PM2.5 NAAQS | Statewide | 9/4/2009 | 10/29/2012, 77 FR 65478 | Addresses the following CAA elements: 110(a)(2)(A), (B), (C), (D)(ii), (E)(i) and (E)(iii), (F)-(H), (J) {except PSD}, and (K)-(M).
Section 110(a)(2) infrastructure requirements for the 2006 PM2.5 NAAQS | Statewide | 6/7/2013 | 4/7/2014, 79 FR 18999 | Addresses the following CAA elements: 110(a)(2)(E)(ii).
Section 110(a)(2) infrastructure requirements for the 2008 lead NAAQS | Statewide | 10/12/2011 | 10/6/2014, 79 FR 60075 | Addresses the following CAA elements: 110(a)(2) (C), (D)(i)(II), (D)(ii), and the PSD portion of (J).
Section 110(a)(2) infrastructure requirements for the 2010 NO2 NAAQS | Statewide | 2/8/2013 | 10/6/2014, 79 FR 60075 | Addresses the following CAA elements: 110(a)(2) (A) to (H) and (J) to (M).
Section 110(a)(2) infrastructure requirements for the 2008 ozone NAAQS | Statewide | 12/27/2012 | 10/16/2014, 79 FR 60219 | Addresses the following CAA elements: 110(a)(2) (A) to (H) and (J) to (M).
Summary of Plan Element
Particulate Matter (PM-10) Plan | Statewide | 11/14/1991 | 6/27/1994, 59 FR 27464 |
Summary of the 15 Percent (%) Rate of Progress (ROP) Plan Control Measures for Volatile Organic Compounds (VOC) Emissions
Cincinnati 15% Plan | Cincinnati (Butler, Clermont, Hamilton, and Warren Counties) | 3/19/1994 | 3/30/1998, 63 FR 4188 |

§ 52.1890 [Removed and Reserved]

3. Remove and reserve § 52.1890.

§ 52.1891 [Removed and Reserved]

4. Remove and reserve § 52.1891.

5. In the newly redesignated § 52.1894 revise the section heading and paragraph (a) to read as follows:

§ 52.1894 Original Identification of plan section.

(a) This section identifies the original “Air Implementation Plan for the State of Ohio” and all revisions submitted by Ohio that were federally approved prior to September 1, 2015.

* * * * *

§ 52.1919 [Removed and Reserved]

6. Remove and reserve § 52.1919.

[FR Doc. 2015-28498 Filed 11-9-15; 8:45 am]

BILLING CODE 6560-50-P